DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On September 17, 2019, OFAC determined that the property and interests in property subject to U.S. jurisdiction of the following persons are blocked under the relevant sanctions authority listed below.

Individuals

1. RUBIO GONZALEZ, David Nicolas (Latin: RUBIO GONZÁLEZ, David Nicolás), Colombia; DOB 14 Apr 1987; nationality Colombia; Gender Male; Cedula No. 1015399085 (Colombia); Passport PE098803 (Colombia) expires 04 Jun 2024 (individual) [VENEZUELA-EO13850].

Designated pursuant to section 1(a)(ii) of Executive Order 13850 of November 1, 2018, “Blocking Property of Additional Persons Contributing to the Situation in Venezuela” (E.O. 13850), as amended by Executive Order 13857 of January 25, 2019, “Taking Additional Steps To Address the National Emergency With Respect to Venezuela,” (E.O. 13857) for being responsible for or complicit in, or having directly or indirectly engaged in, any transaction or series of transactions involving deceptive practices or corruption and the Government of Venezuela or projects or programs administered by the Government of Venezuela, or for being an immediate adult family member of such a person.

2. SAAB MORAN, Amir Luis, Barranquilla, Colombia; Miranda, Venezuela; DOB 29 Jul 1970; citizen Colombia; Gender Male; Cedula No. 72170020 (Colombia); alt. Cedula No. 24978833 (Venezuela); Passport PE135124 (Colombia) expires 23 Jun 2026 (individual) [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

3. SAAB MORAN, Luis Alberto, Colombia; Rome, Italy; DOB 20 Dec 1976; POB Barranquilla, Colombia; citizen Italy; Gender Male; Cedula No. 72224947 (Colombia); Passport YA6688232 (Italy) expires 20 Oct 2024 (individual) [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

Entities

1. SAAB CERTAIN & COMPANIA S. EN C. (a.k.a. SAAB CERTAIN AND COMPANIA S. EN C.; a.k.a. SAAB CERTAIN Y COMPANIA S. EN C.), Cr 43 B No 80—59, Barranquilla, Atlantico, Colombia; NIT # 9000798817 (Colombia) [VENEZUELA-EO13850].

Designated pursuant to section 1(a)(iv) of E.O. 13850, as amended by E.O. 13857, for being owned or controlled by, or having acted or purported to act for or on behalf of, directly or indirectly, SAAB MORAN, Alex Nain, a person whose property and interests in property are blocked pursuant to E.O. 13850, as amended by E.O. 13857.

2. CORPORACION ACS TRADING S.A.S. (Latin: CORPORACIÓN ACS TRADING S.A.S.), Calle 103 A No. 16 90, Apto. 603, Bogota, DC, Colombia; NIT #9004848078 (Colombia) [VENEZUELA-EO13850].

Designated pursuant to section 1(a)(iv) of E.O. 13850, as amended by E.O. 13857, for being owned or controlled by, or having acted or purported to act for or on behalf of, directly or indirectly, RUBIO GONZALEZ, David Nicolas, a person whose property and interests in property are blocked pursuant to E.O. 13850, as amended by E.O. 13857.

3. DIMACO TECHNOLOGY, S.A., Panama City, Panama; Folio Mercantil No. 844226 (Panama) [VENEZUELA-EO13850].

Designated pursuant to section 1(a)(iv) of E.O. 13850, as amended by E.O. 13857, for being owned or controlled by, or having acted or purported to act for or on behalf of, directly or indirectly, RUBIO GONZALEZ, David Nicolas, a person whose property and interests in property are blocked pursuant to E.O. 13850, as amended by E.O. 13857.

4. GLOBAL DE TEXTILES ANDINO S.A.S., CR 46 67 5, Barranquilla, Atlantico, Colombia; NIT #9005980294 (Colombia) [VENEZUELA-EO13850].

Designated pursuant to section 1(a)(iv) of E.O. 13850, as amended by E.O. 13857, for being owned or controlled by, or having acted or purported to act for or on behalf of, directly or indirectly, RUBIO GONZALEZ, David Nicolas, a person whose property and interests in property are blocked pursuant to E.O. 13850, as amended by E.O. 13857.

5. FUNDACION VENEDIG, Panama City, Panama; Identification Number 36102 (Panama) [VENEZUELA-EO13850].

Designated pursuant to section 1(a)(iv) of E.O. 13850, as amended by E.O. 13857, for being owned or controlled by, or having acted or purported to act for or on behalf of, directly or indirectly, SAAB MORAN, Amir Luis, a person whose property and interests in property are blocked pursuant to E.O. 13850, as amended by E.O. 13857.

6. INVERSIONES RODIME S.A., Panama; Folio Mercantil No. 364300 (Panama) [VENEZUELA-EO13850].

Designated pursuant to section 1(a)(iv) of E.O. 13850, as amended by E.O. 13857, for being owned or controlled by, or having acted or purported to act for or on behalf of, directly or indirectly, SAAB MORAN, Amir Luis, a person whose property and interests in property are blocked pursuant to E.O. 13850, as amended by E.O. 13857.

7. SAAFARTEX ZONA FRANCA SAS (a.k.a. COLLECTION CONCEPT S.A.; a.k.a. SAAFARTEX INT. S.A.; a.k.a. SAAFARTEX INTERNATIONAL ZONA FRANCA BARRANQUILLA S.A.; a.k.a. “COCO S.A.”), CL 70 No 41-114 Of 101, Barranquilla, Atlantico, Colombia; NIT #9002257729 (Colombia) [VENEZUELA-EO13850].

Designated pursuant to section 1(a)(iv) of E.O. 13850, as amended by E.O. 13857, for being owned or controlled by, or having acted or purported to act for or on behalf of, directly or indirectly, SAAB MORAN, Amir Luis, a person whose property and interests in property are blocked pursuant to E.O. 13850, as amended by E.O. 13857.

8. VENEDIG CAPITAL S.A.S. (a.k.a. SAABF & COMPANIA S.C.A.; a.k.a. SAABF AND COMPANIA S.C.A.; a.k.a. SAABF Y COMPANIA S.C.A.), CR 53 No 82-86 Of 410, Barranquilla, Atlantico, Colombia; NIT #9002697181 (Colombia) [VENEZUELA-EO13850].

Designated pursuant to section 1(a)(iv) of E.O. 13850, as amended by E.O. 13857, for being owned or controlled by, or having acted or purported to act for or on behalf of, directly or indirectly, SAAB MORAN, Amir Luis, a person whose property and interests in property are blocked pursuant to E.O. 13850, as amended by E.O. 13857.

9. AGRO XPO S.A.S., Cr 53 No 82-86 Of 410, Barranquilla, Atlantico, Colombia; NIT #9011991477 (Colombia) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

10. ALAMO TRADING S.A., CL 75 No 66-36, Barranquilla, Atlantico, Colombia; NIT #9000904041 (Colombia) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

11. ANTIQUA DEL CARIBE S.A.S., Via 40 No 71 197, Barranquilla, Atlantico, Colombia; NIT #9005387011 (Colombia) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

12. AVANTI GLOBAL GROUP S.A.S., Carrera 48 76 10 PI 3, Barranquilla, Atlantico, Colombia; NIT #9004786647 (Colombia) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

13. GLOBAL ENERGY COMPANY S.A.S., CL 94 No 51 B-43 PI 4 Of 401, Barranquilla, Atlantico, Colombia; NIT #9006520120 (Colombia) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

14. GRUPPO DOMANO S.R.L., Via Robert Musil 8, Roma 00137, Italy; Tax ID No. 15250881008 (Italy) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

15. MANARA S.A.S., Cr 53 No 82-86 Of 410, Barranquilla, Atlantico, Colombia; NIT #9011734898 (Colombia) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

16. TECHNO ENERGY, S.A., Panama City, Panama; Folio Mercantil No. 843504 (Panama) [VENEZUELA-EO13850].

Designated pursuant to section 1(a)(iv) of E.O. 13850, as amended by E.O. 13857, for being owned or controlled by, or having acted or purported to act for or on behalf of, directly or indirectly, SAAB MORAN, Luis Alberto, a person whose property and interests in property are blocked pursuant to E.O. 13850, as amended by E.O. 13857.

Dated: September 17, 2019.
Bradley T. Smith,
Deputy Director, Office of Foreign Assets Control.

[FR Doc. 2019-22862 Filed 10-18-19; 8:45 am]

BILLING CODE 4810-AL-P